DEPARTMENT OF HEALTH AND HUMAN SERVICES

Indian Health Service

42 CFR Part 136

RIN 0917-AA12

Payment for Physician and Other Health Care Professional Services Purchased by Indian Health Programs and Medical Charges Associated With Non-Hospital-Based Care

AGENCY: Indian Health Service, HHS.

ACTION: Proposed rule; extension of the comment period.

SUMMARY: This document extends the comment period for the Payment for Physician and Other Health Care Professional Services Purchased by Indian Health Programs and Medical Charges Associated with Non-Hospital-Based Care proposed rule, which was published in the Federal Register on December 5, 2014. The comment period for the proposed rule, which would have ended on January 20, 2015, is extended to February 4, 2015.

DATES: The comment period for the proposed rule published in the December 5, 2014 Federal Register (79 FR 72160) is extended to February 4, 2015.

ADDRESSES: Because of staff and resource limitations, we cannot accept comments by facsimile transmission. You may submit comments in one of four ways (please choose only one of the ways listed):

1. Electronically. You may submit electronic comments on this regulation to http://regulations.gov. Follow the “Submit a Comment” instructions.

2. By regular mail. You may mail written comments to the following address ONLY: Betty Gould, Regulations Officer, Indian Health Service, 801 Thompson, Avenue, TMP STE 450, Rockville, Maryland 20852. Please allow sufficient time for mailed comments to be received before the close of the comment period.

3. By express or overnight mail. You may send written comments to the above address.

4. By hand or courier. If you prefer, you may deliver (by hand or courier) your written comments before the close of the comment period to the address above.

If you intend to deliver your comments to the Rockville address, please call telephone number (301) 443-1116 in advance to schedule your arrival with a staff member.

Comments will be made available for public inspection at the Rockville address from 8:30 a.m. to 5:00 p.m., Monday-Friday, approximately three weeks after publication of this notice.

FOR FURTHER INFORMATION CONTACT: Carl Harper, Director, Office of Resource Access and Partnerships, Indian Health Service, 801 Thompson Avenue, Rockville, Maryland 20852. Telephone: (301) 443-1553.

SUPPLEMENTARY INFORMATION: This proposed rule would amend Indian Health Service (IHS) Purchased and Referred Care, formally known as Contract Health Services, regulations to apply Medicare payment methodologies to all physician and other health care professional services and non-hospital based services that are either authorized under such regulations or purchased by urban Indian organizations. Specifically, it proposes that the health programs operated by IHS, Tribe, Tribal organization, or urban Indian organization will pay the lowest of the amount provided for under the applicable Medicare fee schedule, prospective payment system, or Medicare waiver; the amount negotiated by a repricing agent, if available; or the usual and customary billing rate. Repricing agents may be used to determine whether IHS may benefit from savings by utilizing negotiated rates offered through commercial health care networks. This proposed rule seeks comment on how to establish reimbursement that is consistent across Federal health care programs, aligns payment with inpatient services, and enables the IHS to expand beneficiary access to medical care.

This comment period is being extended to allow all interested parties the opportunity to comment on the proposed rule. Therefore, we are extending the comment period until February 4, 2015.

Dated: January 7, 2015.
Yvette Roubideaux,
Acting Director, Indian Health Service.

[FR Doc. 2015-00400 Filed 1-13-15; 8:45 am]

BILLING CODE 4165-16-P